DEPARTMENT OF JUSTICE

Antitrust Division

Notice Pursuant to the National Cooperative Research and Production Act of 1993—The Open Group, L.L.C.

Notice is hereby given that, on April 16, 2025, pursuant to section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, ABM Federal Sales, Inc., St. Louis, MO; Acuvate Software Private, Limited, Edison, NJ: Applied Dynamics International, Inc., Ann Arbor, MI; AS Digital, Freising, FEDERAL REPUBLIC OF GERMANY; Aurora Systems Consulting, Torrance, CA, Autonomous Defense Technologies Corp., Oxnard, CA; Brandywine Photonics, LLC, West Chester, PA; Cognitive GeoInterpretation, Inc., Tallahassee, FL; CounterTrade Products, Inc., Arvada, CO; Cyber Pack Ventures, Inc., Columbia, MD; Dock Consulting, Rotterdam, KINGDOM OF THE NETHERLANDS; ECS Federal, LLC, Fairfax, VA; Essnova Solutions, Inc., Birmingham, AL; Fairwinds Technologies, LLC, Aberdeen Proving Ground, MD; Federal Resources Corporation, Erie, PA; Flare Solutions Limited, Henley-on-Thames, UNITED KINGDOM; Four Inc., Herndon, VA, Goal Oriented Business, Cergy, FRENCH REPUBLIC; Golden Star Technology, Inc., Cerritos, CA; GovConnection, Inc., Rockville, MD; Greenbrier Government Solutions, Inc., Oceana, WV; Insight Enterprises, Inc., Chandler, AZ; Kalpra Tech Solutions LLC, Houston, TX; Minburn Technology Group LLC, Great Falls, VA; Naval Service Warfare Center—Crane, Crane, IN; Neo4j, Inc., San Mateo, CA; NetApp, Inc., San Jose, CA; New Tech Solutions Inc., Fremont, CA; Next-Shot LLC, Sugar Land, TX; Optivor Technologies, L.L.C., Orlando, FL; Panzer Security Consulting, Inc., Denton, TX; PETKIM Petrokimya Holding Anonim Şirketi, Izmir, REPUBLIC OF TURKEY; Sanmina Corporation, San Jose, CA; Sierra7, Inc., McLean, VA; SMS Data Products Group, Inc., McLean, VA; Software Information Resource Corp., Washington, DC; Strategic Communications, LLC, Louisville, KY; TAGHANIET AL-TAHWOL, Riyadh, KINGDOM OF SAUDI ARABIA; ThunderCat Technology, LLC, Reston, VA; WekaIO, Inc., Campbell, CA; Westwind Computer Products, Inc., Albuquerque, NM; Xfinion Inc., Bethesda, MD; ZDEN Technologies LLC, Edmond, OK, have been added as parties to this venture.

Also, Alitech SAS, Boulogne-Billancourt, FRENCH REPUBLIC; Beijing UINO Technology Co., Ltd, Beijing, PEOPLE'S REPUBLIC OF CHINA; CAPC Group, LLC, Cincinnati, OH; Corso Ltd., Leamington Spa, UNITED KINGDOM; Global Air Logistics and Training, Inc., San Diego, CA; Hewlett Packard Enterprises, Cupertino, CA; Inertialwave, Inc., Torrance, CA; Intelligent Artifacts, Inc., New York, NY; Knowledgehut Solutions Pvt. Ltd., Bengaluru, REPUBLIC OF INDIA; Modulo Security Solutions, Rio de Janeiro, FEDERATIVE REPUBLIC OF BRAZIL; Moog, Inc., Elma, NY; SmartCore Digital Sdn. Bhd., Shah Alam, MALAYSIA; Société Générale S.A., Paris, FRENCH REPUBLIC; Softeq Development Corp, Houston, TX; Strategy Alliance B.V., Puttershoek, KINGDOM OF THE NETHERLANDS; Sygnia Consulting Ltd, Tel Aviv, STATE OF ISRAEL; Systel, Inc., Sugar Land, TX; TurbineOne, Inc., San Francisco, CA; Virtual Marine Technology, Inc., Paradise, CANADA; Wakaru Oy, Helsinki, REPUBLIC OF FINLAND; Weatherford International, LLC, Houston, TX; Wood Mackenzie, Inc., Houston, TX; Xecta Digital Labs Ltd, Houston, TX; and ZEDEDA, San Jose, CA, have withdrawn as parties to this venture.

Additionally, Hitachi Vantara LLC has changed its name to Hitachi Digital Services LLC, Santa Clara, CA.

No other changes have been made in either the membership or planned activity of the group research project. Membership in this group research project remains open, and TOG intends to file additional written notifications disclosing all changes in membership.

On April 21, 1997, TOG filed its original notification pursuant to section 6(a) of the Act. The Department of Justice published a notice in the Federal Register pursuant to section 6(b) of the Act on June 13, 1997 (62 FR 32371).

The last notification was filed with the Department on November 4, 2024. A notice was published in the Federal Register pursuant to section 6(b) of the Act on January 27, 2025 (90 FR 8224).

Suzanne Morris,
Deputy Director Civil Enforcement Operations, Antitrust Division.

[FR Doc. 2025-10566 Filed 6-10-25; 8:45 am]

BILLING CODE 4410-11-P